DEPARTMENT OF EDUCATION

34 CFR Chapter VI

[Docket ID ED-2025-0151]

Public Hearing; Negotiated Rulemaking Committees

AGENCY: Office of Postsecondary Education, Department of Education.

ACTION: Intent to establish negotiated rulemaking committees.

SUMMARY: We announce our intention to establish two negotiated rulemaking committees to prepare regulations for the Federal student financial assistance programs authorized under Title IV of the Higher Education Act (HEA) of 1965, as amended (Title IV, HEA programs). One committee will consider changes to the Federal student loan programs and the other committee will consider changes to institutional and programmatic accountability, the Pell Grant Program, and other changes to the Title IV, HEA programs.

This rulemaking is necessary to implement recent statutory changes to the Title IV, HEA programs included in Pub. L. 119-21, known as the One Big Beautiful Bill Act, that President Trump signed into law on July 4, 2025, as well as to implement other Administration priorities.

Prior to submitting draft regulations to the negotiated rulemaking process, the Department invites the public to provide advice and recommendations addressing the implementation of the changes to the Title IV, HEA programs included in Pub. L. 119-21 during a virtual public hearing that will be held on August 7, 2025, from 9:00 a.m. to noon and 1:00 p.m. to 4:00 p.m., Eastern time. As part of the hearing record, the Department will also accept written comments providing advice and recommendations on the implementation of the changes to the Title IV, HEA programs included in Pub. L. 119-21 through August 25, 2025.

DATES: The dates, times, and locations for the virtual public hearing and the schedule for negotiations are listed under the SUPPLEMENTARY INFORMATION section of this document. The Department will accept written comments providing advice and recommendations for the hearing record via the Federal eRulemaking portal through August 25, 2025.

ADDRESSES: Submit your comments through the Federal eRulemaking Portal at regulations.gov. The Department will not accept comments submitted by fax or by email or comments submitted after the comment period closes. To ensure we do not receive duplicate copies, please submit your comments only once. Additionally, please include the Docket ID at the top of your comments.

Information on using Regulations.gov, including instructions for submitting comments, is available on the site under “FAQ.” If you require an accommodation or cannot otherwise submit your comments via Regulations.gov, please contact regulationshelpdesk@gsa.gov or by phone at 1-866-498-2945. If you are deaf, hard of hearing, or have a speech disability and wish to access telecommunications relay services, please dial 7-1-1.

Privacy Note: The Department's policy is to make all comments received from members of the public available for public viewing in their entirety on the Federal eRulemaking Portal at www.regulations.gov. Therefore, commenters should only include in their comments information that they wish to make publicly available. Additionally, commenters should not include in their comments any personally identifiable information on other individuals. The Department reserves the right to redact at any time any personally identifiable information in comments about other individuals.

Mass Writing Campaigns: In instances where individual submissions appear to be duplicates or near duplicates of comments prepared as part of a writing campaign, the Department will post one representative sample comment along with the total comment count for that campaign to Regulations.gov. The Department will consider these comments along with all other comments received.

FOR FURTHER INFORMATION CONTACT: For general information about negotiated rulemaking, see the Frequently Asked Questions section of the Negotiated Rulemaking Process for Title IV regulations website at: https://www.ed.gov/laws-and-policy/higher-education-laws-and-policy/negotiated-rulemaking-process-title-iv-regulations-frequently-asked-questions.

For information about the virtual public hearing, or for additional information about negotiated rulemaking, contact: Tamy Abernathy, U.S. Department of Education, Office of Postsecondary Education, 400 Maryland Avenue SW, 5th floor, Washington, DC 20202. Telephone: (202) 245-4595. Email: NegRegNPRMHelp@ed.gov.

If you are deaf, hard of hearing, or have a speech disability and wish to access telecommunications relay services, please dial 7-1-1.

SUPPLEMENTARY INFORMATION:

Public Hearing

We will hold a virtual public hearing on August 7, 2025, from 9:00 a.m. to 4:00 p.m. with a one-hour recess from noon to 1:00 p.m. for interested parties to provide advice and recommendations on the implementation of the changes to the Title IV, HEA programs enacted in Pub. L. 119-21, as well to implement other Administration priorities. Further information on the public hearing is available at https://www.ed.gov/laws-and-policy/higher-education-laws-and-policy/higher-education-policy/negotiated-rulemaking-for-higher-education-2025-2026.

Individuals who would like to speak at the virtual public hearing must register in advance by sending an email message to negreghearing@ed.gov no later than 12:00 p.m., Eastern time, July 28, 2025. The message should include the name of the speaker, the general topic(s) the individual would like to address, and one or more times during the day which the individual would be available to speak. We will attempt to accommodate each speaker, however, if we are unable to do so, we will select speakers on a first-come, first-served basis based on the date and time we received their email message. We will limit each participant to three minutes. For those who need a reasonable accommodation in order to provide a live comment during the hearing, please see the “Reasonable Accommodations” section below for information about how to make such a request.

The Department will notify registrants of the time slot reserved for them to speak and will provide information on how to log in to the hearing as a speaker. An individual may make only one presentation at the virtual hearing. If we receive more registrations than we are able to accommodate, the Department reserves the right to reject the registration of an entity or individual that is affiliated with an entity or individual that is already scheduled to speak, and to select among registrants to ensure a broad range of entities and individuals is allowed to present. If all time slots are not filled before the day of the hearing, we will accept registrations for any remaining time slots on a first-come, first-served basis beginning at 8:00 a.m. on the day of the virtual hearing at negreghearing@ed.gov.

Reasonable Accommodations: The hearing will be accessible to individuals with disabilities. Information for contacting the Department to request auxiliary aids or services to provide a live comment will be included in the registration process for speaking at the hearing. If you will need an auxiliary aid or service to provide your comments, please notify the person listed under FOR FURTHER INFORMATION CONTACT in this notice at least two weeks before the scheduled meeting date.

Registration is also required to view the virtual hearing. American Sign Language translation and closed captioning will be provided for the virtual hearing. We will post registration links for attendees who wish to observe on our website at https://www.ed.gov/laws-and-policy/higher-education-laws-and-policy/higher-education-policy/negotiated-rulemaking-for-higher-education-2025-2026. The Department will also post transcripts of the hearing on that site.

The Department will accept written comments providing advice and recommendations via the Federal eRulemaking portal through August 25, 2025. See the ADDRESSES section of this document for submission information.

Negotiated Rulemaking

We announce our intent to develop proposed Title IV, HEA program regulations by following the negotiated rulemaking procedures in section 492 of the HEA (20 U.S.C. 1098a). That section requires that, after obtaining advice and recommendations from individuals and representatives of groups involved in the Title IV, HEA programs and before publishing any proposed regulations to implement programs authorized under Title IV of the HEA, the Secretary prepare draft regulations and submit such regulations to a negotiated rulemaking process. We intend to choose members for two rulemaking committees from individuals nominated by groups involved in the Title IV, HEA programs. We will select participants with demonstrated experience in the relevant subjects under negotiation, in accordance with section 492(b)(1) of the HEA (20 U.S.C. 1098a).

Constituency Groups for Negotiator Nominations

We have identified the following constituency groups involved in the Title IV, HEA program regulations being negotiated by each committee. We will choose participants for each constituency group on the committee from individuals nominated by various organizations within each of these constituency groups involved in the Title IV, HEA programs.

Constituency groups which will be represented on the Reimagining and Improving Student Education (RISE) Committee addressing loan issues will consist of the following:

• Student loan borrowers, including borrowers in school, deferment, forbearance, delinquent, default, and currently in repayment.

• Student loan borrowers who are veterans, U.S. military service members, or groups representing them.

• Legal assistance organizations that represent students and borrowers, consumer advocates, and civil rights groups that represent students.

• State officials, including state student grant agencies, state higher education executive officers, and representatives of state authorizing agencies.

• Public institutions of higher education, including institutions eligible to receive Federal assistance under Title III and Title V of the HEA, Tribal Colleges and Universities, and Historically Black Colleges and Universities.

• Private nonprofit institutions of higher education, including institutions eligible to receive Federal assistance under Title III and Title V of the HEA, Tribal Colleges and Universities, and Historically Black Colleges and Universities.

• Proprietary institutions of higher education, as defined in 34 CFR 600.5.

• Student loan servicers, collection agencies, lenders, and guaranty agencies.

• Organizations representing taxpayers and the public interest.

Nominations for committee members serving on the RISE Committee may be sent to the following email address: nominationsfederalstudentloans@ed.gov by August 25, 2025. Please be sure to include the constituency group and the RISE Committee in your nomination.

The constituency groups for the Accountability in Higher Education and Access through Demand-driven Workforce Pell (AHEAD) Committee addressing institutional and program accountability, Pell Grants, and other issues will include the following:

• Students who are currently enrolled and receiving assistance from the Title IV, HEA programs.

• Students who are veterans, U.S. military service members or groups representing them.

• Employers and groups representing the business community, including small, medium, and large businesses.

• Legal assistance organizations that represent students, consumer advocates, and civil rights groups that represent students.

• Public institutions of higher education, including institutions eligible to receive Federal assistance under Title III and Title V of the HEA, Tribal Colleges and Universities, and Historically Black Colleges and Universities.

• Private nonprofit institutions of higher education including institutions eligible to receive Federal assistance under Title III and Title V of the HEA, Tribal Colleges and Universities, and Historically Black Colleges and Universities.

• Proprietary institutions of higher education, as defined in 34 CFR 600.5.

• State workforce agencies and workforce development boards.

• State grant agencies, and other state and non-profit higher education financing organizations.

• State higher education executive officers, State authorizing agencies, and other State regulators.

• Accrediting agencies recognized by the Secretary of Education.

• Organizations representing taxpayers and the public interest.

Nominations for committee members serving on the AHEAD Committee may be submitted to the following email address: negregnominations@ed.gov by August 25, 2025. Please be sure to include the constituency group and the AHEAD Committee in your nomination.

A participant chosen by the Department is expected to represent the interests of their constituency group and to participate in the negotiations in a manner consistent with the goal of developing proposed regulations on which the committee will reach consensus, which means no member of the committee dissents from the proposed regulations.

Nominations Process

We request nominations include the information described in this section.

(1) The name of the nominee;

(2) The name of the constituency (or constituencies) for which the nominee is being nominated (see Constituency Groups for Negotiator Nominations);

(3) The nominee's place of employment or institution at which they are or were enrolled and, if different, the organization the nominee represents;

(4) A resume or evidence of the nominee's expertise and experience in the topics proposed for negotiations;

(5) The nominee's contact information, including email address, telephone number, and mailing address; and

(6) Committee nominated to—the RISE Committee or the AHEAD Committee.

If you wish to nominate the same person for both committees, you will need to submit two nominations, one to each email address.

Please see the ADDRESSES section for submission information. We will confirm receipt of nominations to the submitter. The Department will provide additional information to those we select to serve as negotiators. Once complete, a list of negotiators will be posted here: https://www.ed.gov/laws-and-policy/higher-education-laws-and-policy/higher-education-policy/negotiated-rulemaking-for-higher-education-2025-2026. The Department will also provide information about how any committee vacancies can be filled at the beginning of the first committee meeting.

Schedule for Negotiations

The RISE Committee will meet in-person for two multi-day sessions on the following dates:

Session 1: September 29, September 30, October 1, October 2, and October 3, 2025.

Session 2: November 3, November 4, November 5, November 6, and November 7, 2025.

The AHEAD Committee will meet in-person for two multi-day sessions on the following dates:

Session 1: December 8, December 9, December 10, December 11, and December 12, 2025.

Session 2: January 5, January 6, January 7, January 8, and January 9, 2026.

The committees will meet each day from 9:00 a.m. to 12:00 p.m. and 1:00 p.m. to 4:00 p.m. Eastern time. During these times, the committees may temporarily recess for caucuses or work sessions to develop new regulatory language for consideration by the full committee.

The meetings will be conducted in person and be available for the public to watch in person or via livestream on the internet. Registration is required to observe the meetings in person or via livestream. Space may be limited for the in-person meetings. We will post a registration link on our website at https://www.ed.gov/laws-and-policy/higher-education-laws-and-policy/higher-educationpolicy/negotiated-rulemaking-for-higher-education-2025-2026 no later than one week prior to the start of negotiations for each committee. Please note any in-person visitors to the Department must present a driver's license (DL) or identification (ID) that is compliant with the REAL ID Act; a current military ID; or a valid passport. Those persons not in possession of a DL/ID that is REAL ID compliant, a current military ID, or a valid passport, will not be allowed to enter the building. The Department will also post recordings and transcripts of the meetings on the site listed above.

Regulatory Issues

We intend to prepare draft regulations implementing changes to the Title IV, HEA programs included in Public Law 119-21 and any other topics presented at the public hearing, and to submit such regulations to the negotiated rulemaking process in each committee prior to publishing proposed regulations in the Federal Register.

The proposed issues for negotiation in the RISE Committee include:

1. Phase-out of graduate and professional PLUS Loans.

2. Establishment of new annual loan limits for graduate and professional students and parent borrowers, and implementation of new lifetime borrowing caps.

3. Simplification of student loan repayment plans into a standard repayment plan and a single income-based Repayment Assistance Plan (RAP) for new borrowers, elimination of the Income-Contingent Repayment (ICR) plan, and streamlining requirements for Income-Based Repayment plans for existing borrowers.

4. Institutional flexibility to apply lower annual limits for student and parent borrowers for selected programs of study.

5. Modifications to loan rehabilitation, including allowing defaulted borrowers to rehabilitate their loans a second time and setting minimum monthly payment amounts for such loans, phase-out of unemployment and economic hardship deferments, and limitations on a borrower's ability to receive a general forbearance.

6. Other provisions included in Public Law 119-21 that are effective upon enactment, on July 1, 2026, on July 1, 2027, or on July 1, 2028.

The proposed issues for negotiation in the AHEAD Committee include:

1. Changes in institutional and programmatic accountability measures, including loss of Direct Loan eligibility for certain programs with low earnings outcomes for 2 out of 3 years, and Financial Value Transparency and Gainful Employment.

2. Establishment of program eligibility requirements for a new Workforce Pell Grant for students enrolled in programs that last a duration of 8-15 weeks, are transferable to a recognized postsecondary credential or degree, are approved by the state governor, and have strong outcomes.

3. Exclusion of Pell Grant assistance for students who receive grant or scholarship aid covering their entire cost of attendance or for students with a Student Aid Index in excess of twice the maximum Pell Grant award.

4. Other provisions included in Public Law 119-21 that are effective upon enactment, on July 1, 2026, on July 1, 2027, or on July 1, 2028.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At that site you can view this document, as well as all other documents of this Department published in the Federal Register, in text or portable document format (PDF). To use PDF, you must have Adobe Acrobat Reader, which is available for free on the site. You may also access documents of the Department published in the Federal Register by using the article search feature at www.federalregister.gov. Specifically, through the advanced search feature at this site, you can limit your search to documents published by the Department.

Program Authority: 20 U.S.C 1098a.

James P. Bergeron,
Acting Under Secretary.

[FR Doc. 2025-13998 Filed 7-24-25; 8:45 am]

BILLING CODE 4000-01-P